DEPARTMENT OF ENERGY

Electricity Advisory Committee; Meeting

AGENCY: Office of Electricity, Department of Energy.

ACTION: Notice of open meeting.

SUMMARY: This notice announces an open meeting of the Electricity Advisory Committee. The Federal Advisory Committee Act requires that public notice of these meetings be announced in the Federal Register.

DATES: Wednesday, February 3, 2021; 11:45 a.m.-5:10 p.m. EST; Thursday, February 4, 2021; 11:45 a.m.-5:10 p.m. EST.

ADDRESSES: Due to ongoing precautionary measures surrounding the spread of COVID-19, the February meeting of the EAC will be held via WebEx video and teleconference. In order to track all participants, the Department is requiring that those wishing to attend register for the meeting here: https://www.energy.gov/oe/february-3-4-2021-meeting-electricity-advisory-committee. Please note, you must register for each day you would like to attend.

FOR FURTHER INFORMATION CONTACT: Christopher Lawrence, Designated Federal Officer, Office of Electricity, U.S. Department of Energy, Washington, DC 20585; Telephone: (202) 586-5260 or Email: christopher.lawrence@hq.doe.gov.

SUPPLEMENTARY INFORMATION: Purpose of the Committee: The Electricity Advisory Committee (EAC) was established in accordance with the provisions of the Federal Advisory Committee Act (FACA), as amended, 5 U.S.C., App. 2, to provide advice to the U.S. Department of Energy (DOE) in implementing the Energy Policy Act of 2005, executing certain sections of the Energy Independence and Security Act of 2007, and modernizing the nation's electricity delivery infrastructure. The EAC is composed of individuals of diverse backgrounds selected for their technical expertise and experience, established records of distinguished professional service, and their knowledge of issues that pertain to the electric sector.

Tentative Agenda

February 3, 2021

11:45 a.m.-12:00 p.m. WebEx Attendee Sign-On

12:00 p.m.-12:20 p.m. Welcome, Introductions, Developments since the October 2020 Meeting

12:20 p.m.-12:40 p.m. Update on Office of Electricity Programs and Initiatives

12:40 p.m.-1:10 p.m. Overview of FERC Order 2222 1:10 p.m.-2:00 p.m. Panel Presentation: Aggregated DER participation in ISO/RTO markets enabled by FERC 2222—RTO/ISO Perspectives

2:00 p.m.-2:50 p.m. Panel Presentation: Aggregated DER participation in ISO/RTO markets enabled by FERC 2222—Utility Perspectives

2:50 p.m.-3:10 p.m. Break 3:10 p.m.-5:00 p.m. Energy Storage Subcommittee Report

5:00 p.m.-5:10 p.m. Wrap-up and Adjourn Day 1

February 4, 2021

11:45 a.m.-12:00 p.m. WebEx Attendee Sign-On

12:00 p.m.-12:10 p.m. Welcome

12:10 p.m.-1:00 p.m. Panel: Integration of Energy Storage into the Bulk Power Supply—Energy Storage System Capabilities, and the Challenges of Resource Planning, Operational Dispatch, and Aggregation

1:00 p.m.-2:30 p.m. Discussion Between EAC Members and Panelists

2:30 p.m.-2:45 p.m. Break

2:45 p.m.-3:00 p.m. Subcommittee Update: Grid Resilience for National Security

3:00 p.m.-4:00 p.m. Panel Sponsored by Grid Resilience for National Security Subcommittee

4:00 p.m.-4:20 p.m. Subcommittee Update: Smart Grid

4:20 p.m.-4:40 p.m. Subcommittee Update: Energy Storage

4:40 p.m.-5:00 p.m. Public Comments

5:00 p.m.-5:10 p.m. Wrap-up and Adjourn February 2021 Meeting of the EAC

The meeting agenda may change to accommodate EAC business. For EAC agenda updates, see the EAC website at: http://energy.gov/oe/services/electricity-advisory-committee-eac.

Public Participation: The EAC welcomes the attendance of the public at its meetings. Individuals who wish to offer public comments at the EAC meeting may do so on February 4, but must register in advance. Approximately 20 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee February 2021 Meeting,” to Mr. Christopher Lawrence at christopher.lawrence@hq.doe.gov.

Minutes: The minutes of the EAC meeting will be posted on the EAC web page at http://energy.gov/oe/services/electricity-advisory-committee-eac. They can also be obtained by contacting Mr. Christopher Lawrence at the address above.

Signed in Washington, DC on January 5, 2021.
LaTanya R. Butler,
Deputy Committee Management Officer.

[FR Doc. 2021-00157 Filed 1-7-21; 8:45 am]

BILLING CODE 6450-01-P